DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Citizen Corps Affiliate Program and Organizations Application.

Type of Information Collection: Extension of a currently approved collection.

OMB Number: 3067-0303 (transferred to the Department of Homeland Security under OMB Number 1660-0066).

Abstract: Citizen Corps requests information from not-for-profit and government groups that would like to support the Citizen Corps program through becoming affiliates. The requested information will ensure that Citizen Corps affiliates only with those programs and organizations capable of supporting its mission.

Affected Public: Not-for-profit institutions, and State, Local, and Tribal Governments.

Number of Respondents: 20.

Estimated Time per Respondent: 4 hours.

Estimated Total Annual Burden Hours: 80 hours.

Frequency of Response: On occasion.

Comments: Interested persons are invited to submit written comments on the proposed information collection to the Office of Management and Budget, Office of Information and Regulatory Affairs (Attention: Desk Officer for the Federal Emergency Management Agency, Emergency Preparedness and Response Directorate, Department of Homeland Security), Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or e-mail address InformationCollections@fema.gov.

Dated: April 24, 2003.
Edward W. Kernan,
Division Director, Information Resources Management Division, Information Technology Services Directorate.

[FR Doc. 03-10843 Filed 5-1-03; 8:45 am]

BILLING CODE 6718-01-P